DEPARTMENT OF ENERGY

Federal Energy Regulatory Commission

[Project No. 14406-003]

City and County of San Francisco; Notice of Effectiveness of Surrender

On October 4, 2012, the Commission issued an Order Granting an Exemption from Licensing (Conduit) to the City and County of San Francisco (exemptee) for the proposed 240.9-kilowatt University Mound Reservoir Renewable Hydroelectric Project, FERC No. 14403. The unconstructed project would have been located on the exemptee's water supply and treatment system, in San Francisco, California.

On October 13, 2016, the exemptee filed a petition with the Commission to surrender the exemption. The exemptee has been unable to construct the project due to higher than projected costs associated with recent changes in the exemptee's water supply and treatment system.

Accordingly, the Commission accepts the exemptee's surrender of its exemption from licensing, effective 30 days from the date of this notice, at the close of business on Monday, February 20, 2017. No license, exemption, or preliminary permit applications for the project site may be filed until Tuesday, February 21, 2017.

Dated: January 19, 2017.
Kimberly D. Bose,
Secretary.

[FR Doc. 2017-01787 Filed 1-25-17; 8:45 am]

BILLING CODE 6717-01-P